DEPARTMENT OF STATE

[Public Notice: 5748]

TITLE: 30-Day Notice of Proposed Information Collection: DS-5501, Electronic Visa Entry Form, OMB Control Number 1405-0153

ACTION: Notice of request for public comment and submission to OMB of proposed collection of information.

SUMMARY: The Department of State has submitted the following information collection request to the Office of Management and Budget (OMB) for approval in accordance with the Paperwork Reduction Act of 1995.

• Title of Information Collection: Electronic Diversity Visa Entry Form

• OMB Control Number: 1405-0153

• Type of Request: Extension of Currently Approved Collection

• Originating Office: Bureau of Consular Affairs, Office of Visa Services (CA/VO)

• Form Number: DS-5501

• Respondents: Aliens entering the Diversity Visa Lottery

• Estimated Number of Respondents: 6 million per year

• Estimated Number of Responses: 6 million per year

• Average Hours Per Response: 30 minutes

• Total Estimated Burden: 3 million hours per year

• Frequency: Once per entry

• Obligation to Respond: Required to Obtain Benefits

DATES: Submit comments to the Office of Management and Budget (OMB) for up to 30 days from April 6, 2007.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974

FOR FURTHER INFORMATION CONTACT: Direct requests for additional information regarding the collection listed in this notice, including requests for copies of the proposed information collection and supporting documents, to Andrea Lage of the Office of Visa Services, U.S. Department of State, 2401 E. Street, NW., L-603, Washington, DC 20522, who may be reached at (202) 663-1221 or lageab@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection:

The Department of State utilizes the Electronic Diversity Visa Lottery (EDV) Entry Form to elicit information necessary to ascertain the applicability of the legal provisions of the diversity program. Primary requirements are that the applicant is from a low admission country and is a high school graduate or has two years of experience in a job that requires two years of training. The individual entrants complete the electronic entry form and then entries are randomly selected for participation in the program.

Dated: March 22, 2007.
Stephen A. Edson,
Deputy Assistant Secretary, Bureau of Consular Affairs, Department of State.

[FR Doc. E7-6475 Filed 4-5-07; 8:45 am]

BILLING CODE 4710-06-P